ENVIRONMENTAL PROTECTION AGENCY

[EPA-HQ-OLEM-2018-0012; FRL-9692-01-OMS]

Information Collection Request Submitted to OMB for Review and Approval; Comment Request; State Program Adequacy Determination: Municipal Solid Waste Landfills (MSWLFs) and Non-Municipal, Non-Hazardous Waste Disposal Units That Receive Conditionally Exempt Small Quantity Generator (CESQG) Hazardous Waste (Renewal)

AGENCY: Environmental Protection Agency (EPA).

ACTION: Notice.

SUMMARY: The Environmental Protection Agency (EPA) has submitted an information collection request (ICR), “State Program Adequacy Determination: Municipal Solid Waste Landfills (MSWLFs) and Non-Municipal, Non-Hazardous Waste Disposal Units that Receive Conditionally Exempt Small Quantity Generator (CESQG) Hazardous Waste.” (EPA ICR Number 1608.09, OMB Control Number 2050-0152) to the Office of Management and Budget (OMB) for review and approval in accordance with the Paperwork Reduction Act. This is a proposed extension of the ICR, which is currently approved through May 31, 2022. Public comments were previously requested via the Federal Register on September 28, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 25, 2022.

ADDRESSES: Submit your comments, referencing Docket ID Number EPA-HQ-OLEM-2018-0012, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Craig Dufficy, Materials Recovery and Waste Management Division, Office of Resource Conservation and Recovery, Mail Code 5304T, Environmental Protection Agency, 1200 Pennsylvania Ave. NW, Washington, DC 20460; telephone number: (202) 566-0537; fax number: (202) 250-8572; email address: dufficy.craig@epa.gov.

SUPPLEMENTARY INFORMATION: Supporting documents, which explain in detail the information that the EPA will be collecting, are available in the public docket for this ICR. The docket can be viewed online at www.regulations.gov. For further information and updates on EPA Docket Center services, please visit us online at https://www.epa.gov/dockets. The telephone number for the Docket Center is 202-566-1744.

Abstract: Section 4010(c) of the Resource Conservation and Recovery Act (RCRA) of 1976 requires that EPA revise the landfill criteria promulgated under paragraph (1) of Section 4004(a) and Section 1008(a)(3). Section 4005(c) of RCRA further mandates the EPA Administrator to determine the adequacy of state permit programs to ensure owner and/or operator compliance with the revised federal criteria. A state program that is deemed adequate to ensure compliance may afford flexibility to owners or operators in the approaches they use to meet federal requirements, significantly reducing the burden associated with compliance. In response to the statutory requirement in § 4005(c), EPA developed 40 CFR part 239, commonly referred to as the State Implementation Rule (SIR). The SIR describes the state application and EPA review procedures and defines the elements of an adequate state permit program. The SIR does not require the use of a particular application form. The EPA Administrator has delegated the authority to make determinations of adequacy, as contained in the statute, to the EPA Regional Administrator. In all cases, the information will be analyzed to determine the adequacy of the state's permit program for ensuring compliance with the federal revised criteria.

Form Numbers: None.

Respondents/affected entities: State, Local, or Tribal Governments.

Respondent's obligation to respond: Mandatory under Section 4005(c) of RCRA.

Estimated number of respondents: 12.

Frequency of response: On occasion.

Total estimated burden: 993 hours (per year). Burden is defined at 5 CFR 1320.03(b).

Total estimated cost: $41,674 (per year), which includes $41,674 for annual labor and $0 for annualized capital or operation & maintenance costs.

Changes in the Estimates: There is an increase of 25 hours in the total estimated respondent burden compared with the ICR currently approved by OMB. This increase is due to the extended total length in time for the RD&D permits (see 81 FR 28720) from 12 years to 21 years. This permit time increase requires more cumulative review of technical goals and objectives required in each permit.

Courtney Kerwin,
Director, Regulatory Support Division.

[FR Doc. 2022-06267 Filed 3-23-22; 8:45 am]

BILLING CODE 6560-50-P